INTERNATIONAL TRADE COMMISSION

A Centennial History of the United States International Trade Commission

AGENCY: International Trade Commission.

ACTION: Call for submissions.

SUMMARY: The United States International Trade Commission (“Commission”) is requesting submissions to form parts of a planned Centennial History of the United States International Trade Commission.

DATES: Submissions will be accepted if:

1. The author provides written notice to the Secretary to the Commission by January 29, 2016, of the intent to file a submission.

2. The author files the submission by April 29, 2016.

ADDRESSES: Documents responsive to this notice should be filed with Lisa R. Barton, Secretary, preferably by electronic mail to secretary@usitc.gov. If electronic transmission is not available, documents can be mailed to the Secretary, United States International Trade Commission, 500 E Street SW., Washington, DC 20436.

FOR FURTHER INFORMATION CONTACT: Lisa R. Barton, Secretary, telephone (202) 205-2000, United States International Trade Commission. Hearing-impaired individuals are advised that information on this matter can be obtained by contacting the Commission's TDD terminal at (202) 205-1810. General information concerning the Commission may also be obtained by accessing its Internet server at http://www.usitc.gov.

SUPPLEMENTARY INFORMATION:

The Commission was created by Public Law 64-271 enacted on September 8, 1916. The Commission is planning to commemorate the 100th anniversary of its founding by publishing a Centennial History of the agency.

The Commission's strategic plan describes the agency in the following terms: “For decades, the Commission, an independent, nonpartisan agency, has fulfilled its mandate to provide Congress and the President with objective, thorough, and succinct analysis on the most critical trade issues of the day.” The Commission seeks to place the agency and its mandate for independence, lack of partisanship, and objectivity in its historical context. The Commission intends to focus on this mandate as a theme of the book.

The book is planned to include the following chapters:

Chapter 1. Introduction

The agency and its mission 100 years on

An independent, nonpartisan agency:

A technical, not policy, mission

aspects of independence (budget, litigation, etc.)

The framework of the book; summary of chapters

Chapter 2. The Creation of the Tariff Commission

The perceived need for an agency

President Wilson's initiative

Communications between Administration and Congress

Evolution of organic legislation

The Tariff Commission opens its doors

Chapter 3. Evolution of the Agency, 1917-2016

Early activities

Debates over the number of Commissioners

Tie-breaker provisions

Debate over the strong Chairmanship

Issues with Commissioner and Chairman appointments

Old DC and NYC offices, new building, libraries

Agency alumni strengthen the trade community

Chapter 4. Tariff-Related Proceedings

Tariffs before the creation of the Tariff Commission

Early Tariff Commission activities

Commission role in the drafting of the 1930, 1962 (TSUS), and 1988 (HTS) tariff schedules

The Tariff Schedule of the United States

The Harmonized Tariff Schedule

World Customs Organization activities

The 484(f) Committee

Miscellaneous tariff bills

Recommendations to the President updating the HTS

Chapter 5. Antidumping and Countervailing Duty Investigations

The problems of dumping and subsidization

Antidumping and countervailing duty activities prior to the 1979 Act

Practice from the 1979 Act to the Uruguay Round Implementation Act

Practice since the URAA

Litigation

Chapter 6. Safeguards

Development of the concept under domestic law (the Reciprocal Trade Agreements Act and various extensions)

Inclusion of the concept in international agreements (the GATT and WTO Safeguards Agreement and in bilateral free trade agreements)

Commission investigations under executive orders and U.S. trade legislation (the 1951, 1962, 1974, 1988, and 1994 trade legislation)

Three prominent cases—footwear (1968), autos (1980), and steel (2001)

China safeguards

The lack of cases in recent years

Chapter 7. Intellectual Property Investigations

The problem of unfair imports

The first statute

Section 337

Patent infringement

Trademark infringement

Non-IP investigations

The evolution of the injury requirement

The surge of investigations

Presidential overrides; the Samsung/Apple case

Selected recent developments: e.g., domestic industry, public interest

Litigation

Chapter 8. Industry and Economic Analysis for Congress

Reports prepared for Congress vs. reports for the President

Fact-finding investigations under the 1916 act and section 332 of the Tariff Act

Fact-finding investigations under other authorities

Economic modeling

Chapter 9. Industry and Economic Analysis for the Executive Branch

Role prior to World War II, war time role, and supporting role in trade negotiations

Role in supporting STR and USTR with fact-finding reports and trade negotiation advice

Chapter 10. Conclusion

Summary of the book

This table of contents is preliminary and has not yet been finalized. The Commission is willing to entertain suggestions from prospective authors for modifications to the table.

The Commission is seeking authors to prepare chapters for the book (other than the Conclusion). Each submission for a chapter on one of the Commission's functions would need to address the following: Why Congress felt the need for legislation on the subject of the chapter (e.g., antidumping and countervailing duty determinations); why the Commission was selected to provide such determinations (such as the need for objectivity); and how the Commission has implemented the law. The Commission is willing to accept submissions that are a joint effort of two or more co-authors. Submissions should be consistent with the above-described mandate of non-partisanship and objectivity.

Once filed, each submission will undergo an extensive review process. The Commission reserves the right to edit each submission for form, style, and content. The agency provides no guarantee that a submission will be published in the Centennial History. Publication of a chapter will not result in monetary remuneration.

The Commission is considering convening a conference at which submissions for the Centennial History would be discussed. All authors whose contributions have been accepted for the book would have an opportunity to participate in the conference. In addition, authors whose contributions do not become part of the book may be permitted to participate. Their contributions would also be considered for inclusion in the proceedings of the conference.

As stated above, a prospective author must provide written notice to the Commission by January 29, 2016, of the intent to file a submission. This intent to file must include the following information:

1. Name(s)

2. Institutional Affiliation(s)

3. Status (e.g., doctoral student, Assistant Professor, practitioners)

4. Email address(es)

5. Mailing Address(es)

6. One (1) page single-spaced abstract of the chapter(s) in Microsoft Word format.

Once the Commission has received the notices, each author will receive a packet including: A tentative offer to publish, a voluntary services agreement, and guidelines on editorial styles and compliance with section 508 of the Rehabilitation Act of 1973.

By order of the Commission.
Issued: January 4, 2016.
William R. Bishop,
Supervisory Hearings and Information Officer.

[FR Doc. 2016-00005 Filed 1-6-16; 8:45 am]

BILLING CODE 7020-02-P